DEPARTMENT OF HEALTH AND HUMAN SERVICES

Centers for Disease Control and Prevention

National Task Force on Fetal Alcohol Syndrome and Fetal Alcohol Effect Meeting: Cancelled

Name: National Task Force on Fetal Alcohol Syndrome and Fetal Alcohol Effect (NTFFASFAE) meeting-Cancelled.

Times and Dates: 8:30 a.m.-4:30 p.m., May 16, 2002, 8:30 a.m.-3 p.m., May 17, 2002.

Place: Doubletree Hotel Atlanta Buckhead, 3340 Peachtree Road, NE, Atlanta, Georgia 30326, telephone 404/231-1234, fax 404/231-5236.

Status: Meeting Cancelled. Published in the Federal Register: April 18, 2002, Volume 67, Number 75, Page 19190.

Contact Person for More Information: R. Louise Floyd, DSN, RN, Designated Federal Official, National Center on Birth Defects and Developmental Disabilities, CDC, 4700 Buford Highway, NE, (F-49), Atlanta, Georgia 30333, telephone 770/488-7372, fax 770/488-7361.

The Director, Management Analysis and Services Office, has been delegated the authority to sign Federal Register notices pertaining to announcements of meetings and other committee management activities for both the CDC and ATSDR.

Dated: May 8, 2002.
Alvin Hall,
Acting Director, Management Analysis and Services Office, Centers for Disease Control and Prevention.

[FR Doc. 02-11967 Filed 5-13-02; 8:45 am]

BILLING CODE 4163-18-P